DEPARTMENT OF THE TREASURY

Submission for OMB Review; Comment Request

July 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 27, 2007 to be assured of consideration.

Internal Revenue Service (IRS)

OMB Number: 1545-2058.

Type of Review: Extension.

Title: U.S. Electronic Large Partnership Declaration for an I.R.S. e-file return.

Form: 8453-B.

Description: If you are filing a 2006 Form 1065-B through an ISP and/or transmitter and you are not using an ERO, you must file Form 8453-B with your electronically filed return. An ERO can use either Form 8453-B or Form 8879-B to obtain authorization to file the partnership's Form 1065-B.

Respondents: Businesses and other for-profits.

Estimated Total Burden Hours: 144 hours.

OMB Number: 1545-1616.

Type of Review: Extension.

Title: REG-115393-98 (Final) Roth IRAs.

Description: The regulations provide guidance on establishing Roth IRAs, contributions to Roth IRAs, converting amounts to Roth IRAs, recharacterizing IRA contributions, Roth IRA distributions, and Roth IRA reporting requirements.

Respondents: Individuals or Households.

Estimated Total Burden Hours: 125,000 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E7-14470 Filed 7-25-07; 8:45 am]

BILLING CODE 4830-01-P